DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Reporting of Sea Turtle Entanglement in Fishing Gear and Marine Debris.

OMB Control Number: 0648-0496.

Form Number(s): NA.

Type of Request: Regular submission (extension of a current information collection).

Number of Respondents: 112.

Average Hours per Response: Initial telephone calls and written reports, 1 hour each; follow-up interviews, 30 minutes.

Burden Hours: 163.

Needs and Uses: This request is for extension of a currently approved information collection.

Sea turtles can become accidentally entangled in active or discarded fishing gear, marine debris, or other lines in the marine environment. These entanglements may prevent the recovery of endangered and threatened sea turtle populations. NOAA's Marine Fisheries Service (NMFS) established the Sea Turtle Disentanglement Network in response to the threat of entanglement, in particular in the vertical line of fixed gear fisheries. The Network's goals are to increase reporting and to reduce sea turtle serious injury and mortality associated with these events. As there is limited to no observer coverage of pot gear fisheries, NMFS relies on the Network, the United States Coast Guard (USCG), the fishing industry, Federal, state, and local authorities, and the public for this information, which helps NMFS understand the threats to sea turtle populations in the Northeast Region (Maine to Virginia).

Affected Public: Individuals or households.

Frequency: On occasion.

Respondent's Obligation: Voluntary.

This information collection request may be viewed at reginfo.gov. Follow the instructions to view Department of Commerce collections currently under review by OMB.

Written comments and recommendations for the proposed information collection should be sent within 30 days of publication of this notice to OIRA_Submission@omb.eop.gov or faxed to (202) 395-5806.

Dated: June 30, 2014.
Gwellnar Banks,
Management Analyst, Office of the Chief Information Officer.

[FR Doc. 2014-15684 Filed 7-3-14; 8:45 am]

BILLING CODE 3510-22-P